FEDERAL COMMUNICATIONS COMMISSION

[WC Docket No. 23-1; DA 25-407; FR ID 294739]

Next Meeting of the North American Numbering Council

AGENCY: Federal Communications Commission.

ACTION: Notice.

SUMMARY: In this document, the Commission released a public notice announcing a meeting of the North American Numbering Council (NANC).

DATES: June 24, 2025. The meeting will come to order at 2 p.m.

ADDRESSES: The meeting will be conducted in person in the Commission Meeting Room of the Federal Communications Commission, 45 L Street NE, Washington, DC and available to the public via the internet at https://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The meeting will be held Tuesday, June 24, 2025 from 2 p.m. until 4 p.m. ET in person in the Commission Meeting Room of the Federal Communications Commission, 45 L Street NE, Washington, DC, and via the internet at https://www.fcc.gov/live. While the meeting is open to the public, the FCC headquarters building is not open access, and all guests must check in with and be screened by FCC security at the main entrance on L Street. Attendees will not be required to have an appointment but must otherwise comply with protocols outlined at: https://www.fcc.gov/visit. Additionally, the meeting will be available to the public via live feed from the FCC's web page at http://www.fcc.gov/live. Open captioning will be provided online for this event. Other reasonable accommodations for people with disabilities are available upon request. Requests for such accommodations should be submitted via email to fcc504@fcc.gov or by calling the Consumer & Governmental Affairs Bureau at (202) 418-0530. Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in WC Docket No. 23-1.

This is a summary of the Commission's document in WC Docket No. 23-1, DA 25-407, released May 12, 2025.

Proposed Agenda: At the June meeting, the NANC will consider and vote on four reports and recommendations from the Numbering Administration Oversight Working Group: (1) the North American Numbering Plan Administrator Performance Review; (2) the Reassigned Numbers Database Administrator Performance Review; (3) the North American Numbering Plan Billing and Collection Agent Performance Review; and (4) the North American Numbering Plan Fund Size Projections and Contribution Factor. The NANC will also hear a report from the Billing & Collection Agent, Welch LLP, and routine status reports from the North American Portability Management, LLC, and the Secure Telephone Identity Governance Authority.

(5 U.S.C. app 2 sec. 10(a)(2))

Federal Communications Commission.
Edward Krachmer,
Deputy Chief, Competition Policy Division, Wireline Competition Bureau.

[FR Doc. 2025-09471 Filed 5-23-25; 8:45 am]

BILLING CODE 6712-01-P